ENVIRONMENTAL PROTECTION AGENCY

40 CFR Part 300

[FRL-7104-1]

National Oil and Hazardous Substances Pollution Contingency Plan; National Priorities List Update

AGENCY: Environmental Protection Agency.

ACTION: Notice of partial deletion of the Tobyhanna Army Depot Superfund Site from the National Priorities List.

SUMMARY: The Environmental Protection Agency (EPA) Region 3 announces the deletion of all portions of the Tobyhanna Army Depot Site except for contaminated groundwater plumes at OU1 and OU5 (Excluded Areas), from the National Priorities List (NPL). The NPL, promulgated pursuant to section 105 of the Comprehensive Environmental Response, Compensation, and Liability Act (CERCLA) of 1980, as amended, 42 U.S.C. 9605, is codified at appendix B of the National Oil and Hazardous Substances Pollution Contingency Plan (NCP), 40 CFR part 300. This partial deletion is consistent with the EPA's Notice of Policy Change: Policy Regarding Partial Deletion of Sites Listed on the National Priorities List. This partial deletion pertains to all portions of the Tobyhanna Army Depot Site except for the Excluded Areas, which are undergoing natural attenuation and long-term monitoring. These Excluded Areas will remain on the NPL until the performance standards specified in the Records of Decision are met. With the concurrence of the Commonwealth of Pennsylvania through the Pennsylvania Department of Environmental Protection (PADEP), the EPA has determined that responsible parties have implemented all appropriate response actions required at the Site, and that the portion to be deleted poses no significant threat to public health, welfare, or the environment; consequently, pursuant to CERCLA section 105, and 40 CFR 300.425(e), the Tobyhanna Army Depot Site, except for the Excluded Areas, is hereby deleted from the NPL.

EFFECTIVE DATE: November 16, 2001.

FOR FURTHER INFORMATION CONTACT: Lorie Baker, Remedial Project Manager, (215) 814-3355, United States Environmental Protection Agency, Region 3, Mail Code: 3HS34, 1650 Arch Street, Philadelphia, PA, 19103-2029, e-mail: baker.lorie@epa.gov. Information on the Site is available at the local information repository located at Coolbaugh Township Municipal Building, Route 611, Tobyhanna, PA 18466, (570) 895-6552.

SUPPLEMENTARY INFORMATION: The site to be partially deleted from the NPL is the Tobyhanna Army Depot Superfund Site located near the town of Tobyhanna, in Coolbaugh Township, Monroe County, Pennsylvania. This partial deletion pertains to all portions of the Tobyhanna Army Depot except for the Excluded Areas, contaminated groundwater plumes at OU1 and OU5. This Partial Deletion is in accordance with 40 CFR 300.425(e) and the Notice of Policy Change: Partial Deletion of Sites Listed on the National Priorities List, 60 FR 55466 (Nov. 1, 1995). A Notice of Intent for Partial Deletion was published on June 12, 2001 (66 FR 31582).

The closing date for comments on the Notice of Intent for Partial Deletion was July 13, 2001. The EPA received two comments, both of which concerned OU4, the Powder Smoke Ridge Unexploded Ordnance (UXO) Area. The commentors were concerned that OU4 was being proposed for deletion from the NPL when there had been no site remediation for the area and that UXO was to remain onsite. The US Army (the responsible party) completed a removal action at OU4 which consisted of installing a barbed wire fence and posting warning signs in the area.

This action was selected based on the difficulty in undertaking a clearance due to the age of the range and the rocky and heavily forested terrain. The remedial action chosen was institutional controls which includes maintenance of the physical controls, increased security patrols, proprietary controls, public education, and periodic review.

EPA provided detailed responses to the comments in a Responsiveness Summary, which is contained in the Deletion Docket. The Responsiveness Summary and entries in the Deletion Docket may be reviewed at the EPA Region III office at 1650 Arch Street, Philadelphia, PA, or at the information repository listed above.

The EPA identifies sites which appear to present a significant risk to public health, welfare, or the environment and it maintains the NPL as the list of those sites. Deletion of a site from the NPL does not affect responsible party liability or impede agency efforts to recover costs associated with response efforts. Section 300.425(e)(3) of the NCP states that whenever there is a significant release from a site deleted from the NPL, the site may be restored to the NPL without application of the Hazard Ranking System.

List of Subjects in 40 CFR Part 300

Environmental protection, Air pollution control, Chemicals, Hazardous substances, Hazardous waste, Intergovernmental relations, Penalties, Reporting and recordkeeping requirements, Superfund, Water pollution control, Water supply.

Dated: October 24, 2001.
Thomas C. Voltaggio,
Acting Regional Administrator, Region III.

For the reasons set out in the preamble, 40 CFR Part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p. 193.

2. Table 2 of Appendix B to Part 300 is amended by revising the entry for “Tobyhanna Army Depot” under PA to read as follows:

Appendix B to Part 300—National Priorities List

* * * * *

Table 2.—Federal Facilities Section
St | Site name | City/County | Notes (a)
* * * * * * *
PA | Tobyhanna Army Depot | Tobyhanna | P
* * * * * * *

(a) * * *

P=Sites with partial deletion(s).

[FR Doc. 01-28629 Filed 11-15-01; 8:45 am]

BILLING CODE 6560-50-P